DEPARTMENT OF HOUSING AND URBAN DEVELOPMENT

[Docket No. FR-5607-C-25]

Notice of Proposed Information Collection; Comment Request: Section 8 Renewal Policy Guide

AGENCY: Office of the Assistant Secretary for Housing, HUD.

ACTION: Correction.

SUMMARY: On August 8, 2012, at 77 FR 47430, HUD published [Section 8 Renewal Policy Guide].

DATES: Comments Due Date: November 13, 2012.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339).

FOR FURTHER INFORMATION CONTACT: Catherine Brennan, Director, Office of Housing Assistance and Grant Administration, Department of Housing and Urban Development, 451 7th Street SW., Washington, DC 20410, telephone (202) 708-3000, extension 6732 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Section 8 Renewal Policy Guide.

OMB Control Number, if applicable: 2502-0587.

Description of the need for the information and proposed use:

The Section 8 Renewal Policy Guide implements Section 524 of the Multifamily Housing Reform and Affordability Act of 1997 (MAHRA) (public law 105-65, enacted on October 27, 1997), which governs how expiring Section 8 project-based assistance contracts are renewed. The Section 8 contract renewal process is an essential component to preserving low income rental housing affordability and availability, while reducing long-term costs of project-based assistance. Project-based assistance contracts are renewed under MAHRA to protect tenants and preserve affordable housing for low and very low-income tenants. The Section 8 contract renewal process will provide housing protection for the low and very low-income tenants living in various United States communities.

The Section 8 Renewal Policy Guide sets forth six renewal options from which a project owner may choose when renewing their expiring Section 8 contract:

Option One—Mark-Up-To-Market;

Option Two—Other Contract Renewal with Current Rents at or Below Comparable Market Rents;

Option Three—Referral to the Office of Affordable Preservation (OAHP);

Option Four—Renewal of Projects Exempted From OAHP;

Option Five—Renewal of Portfolio Reengineering Demonstration or Preservation Projects;

Option Six—Opt Outs.

Owners should select one of six options which are applicable to their project and should submit contract renewal on an annual basis to renew contract.

Agency form numbers, if applicable:

Contract Renewal Request Form (HUD-9624)

OCAF Rent Adjustment Worksheet (HUD-9625)

Auto-OCAF Letter Option One and Three, (HUD-9626)

Auto-OCAF Letter Option Two and Four (HUD-9627)

Request to Renew Using Non-Section 8 Units in the Section 8 Project as a Market Rent Ceiling (HUD-9629)

Request to Renew Using FMR's as Market Ceiling (HUD-9630)

Use Agreement (HUD-9634)

Projects Preparing a Budget-Based Rent Increase (HUD-9635)

Basic Renewal Contract—One Year Term (HUD-9636)

Basic Renewal Contract—Multi-Year Term (HUD-9637)

Renewal Contract for Mark-Up-To-Market Projects (HUD-9638)

Housing Assistance Payment Preservation Renewal Contract (HUD-9639)

Interim (Full) Mark-to-Market Renewal Contract (HUD-9640)

Interim (Lite) Mark-To-Market Renewal Contract (HUD-9641)

Full Mark-To-Market Renewal Contract (HUD-9642)

Watch List Renewal Contract (HUD-9643)

Project Based Assistance Payments Amendment Contract Moderate Rehabilitation (HUD-9644)

Consent to Assignment of HAP Contract for Freddie Mac Financing (HUD 9648A)

Consent to Assignment of HAP Contract as Security to FNMA as Security for FNMA Credit Enhancement (HUD-9648D)

Consent to Assignment of HAP Contract as Security for Financing (HUD-9649)

Consent to Assignment of HAP Contract as Security for FNMA Financing (HUD-9651)

Estimation of the total numbers of hours needed to prepare the information collection including number of respondents, frequency of response, and hours of response: The number of burden hours is 24,603. The number of respondents is 25,324, the number of responses is 25,324, and the burden hour per response is 1 or less.

Status of the proposed information collection: This is a revision of a currently approved collection.

Authority: The Paperwork Reduction Act of 1995, 44 U.S.C., Chapter 35, as amended.

Dated: August 28, 2012.
Laura M. Marin,
Acting General Deputy Assistant Secretary for Housing-Acting General Deputy Federal Housing Commissioner.

[FR Doc. 2012-22378 Filed 9-10-12; 8:45 am]

BILLING CODE 4210-67-P